DEPARTMENT OF COMMERCE

International Trade Administration

[A-533-809]

Certain Forged Stainless Steel Flanges From India: Final Results and Partial Rescission of Antidumping Duty Administrative Review

AGENCY: Import Administration, International Trade Administration, Department of Commerce.

ACTION: Notice of final results and partial rescission of antidumping duty administrative review of certain forged stainless steel flanges from India.

SUMMARY: The Department of Commerce (“the Department”) has conducted an administrative review of the antidumping duty order on certain forged stainless steel flanges from India (A-533-809) produced and/or exported by Echjay Forgings Pvt. Ltd. (“Echjay”), Viraj Forgings Ltd. (“Viraj”), Snowdrop Trading Pvt. Ltd. (“Snowdrop”), Bhansali Ferromet Pvt. Ltd. (“Bhansali”), Panchmahal Steel Ltd. (“Panchmahal”), Metal Forgings Rings & Bearings Pvt. Ltd. (“MF”), and Patheja Forgings and Auto Parts, Ltd. (“Patheja”). The period of review (POR) is February 1, 2001, through January 31, 2002. Based on our analysis of comments received, these final results differ from the Preliminary Results for Echjay. The final results are listed below in the ``Final Results of Review'' section.

EFFECTIVE DATE: July 16, 2003.

FOR FURTHER INFORMATION CONTACT: Helen Kramer at (202) 482-0405 (Snowdrop), Shireen Pasha at (202) 482-0193 (Echjay), or Dena Aliadinov at (202) 482-3362 (Viraj), Import Administration, International Trade Administration, U.S. Department of Commerce, 14th Street and Constitution Ave, NW, Washington, DC 20230.

SUPPLEMENTARY INFORMATION:

Background

On March 10, 2003, the Department published the preliminary results and partial rescission of its administrative review of the antidumping duty order on certain forged stainless steel flanges (“SS flanges”) from India. See Notice Of Preliminary Results And Partial Rescission Of Antidumping Duty Administrative Review, 68 FR 11361 (March 10, 2003) (“Preliminary Results”).

We invited parties to comment on the Preliminary Results. On April 9, 2002, we received case briefs from Echjay and Snowdrop. On April 15, 2003, we returned the case brief submitted by Echjay to its counsel, requesting that Echjay delete all new information and resubmit the brief by 8:30 a.m. on April 16, 2003. On April 16, 2003, the Department received the revised case brief from counsel on behalf of Echjay. A public hearing was held on April 16, 2003. We note that Viraj did not submit a brief.

Partial Rescission

In our preliminary results, we announced our preliminary decision to rescind the review with respect to Bhansali, Panchmahal, MF, and Patheja, because these companies apparently had no entries of SS flanges from India during the POR. See Preliminary Results 68 FR at 11362. We have received no new information contradicting the decision. Therefore, we are rescinding the administrative review with respect to Bhansali, Panchmahal, MF and Patheja.

Scope of the Review

The products under review are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheadings are provided for convenience and customs purposes, the written description of the merchandise under review is dispositive of whether or not the merchandise is covered by the review.

Use of Facts Otherwise Available

As discussed in detail in the Preliminary Results, we have determined to use facts otherwise available for Echjay, in reconstructing its constructed value to arrive at the correct margin; and, as noted in the Preliminary Results, we determine that, in accordance with sections 776(a) and (b) of the Act, the use of adverse facts available is appropriate for Snowdrop, whose producers did not respond to our requests for information. The Department has received comments from Echjay and Snowdrop, all of which are addressed in the “Issues and Decision Memorandum.”

Analysis of Comments Received

The Department has received comments from Echjay and Snowdrop, all of which are addressed in the “Issues and Decision Memorandum” from Barbara E. Tillman, Acting Deputy Assistant Secretary, Import Administration, to Joseph Spetrini, Acting Assistant Secretary, Import Administration, dated July 8, 2003 (“Decision Memorandum”), which is hereby adopted by this notice. Attached to this notice as an Appendix is a list of the issues that Echjay and Snowdrop have raised and to which we have responded in the Decision Memorandum. Parties can find a complete discussion of all issues raised in this review and the corresponding recommendations in this public memorandum, which is on file in the Department's Central Records Unit, located at 14th Street and Constitution Avenue, NW, Room B-099. In addition, a complete version of the Decision Memorandum can be accessed directly on the Import Administration website at http://ia.ita.doc.gov/ under the heading Federal Register Notices. The paper copy and electronic version of the Decision Memorandum are identical in content.

Changes Since the Preliminary Results

Based on our analysis of comments received and findings at verification, we have made certain changes in the margin calculations. These changes are noted in various sections of the Decision Memorandum, accessible in B-099 and on the Web at www.ia.ita.doc.gov/frn.

Final Results of Review

We determine that the following dumping margins exist for the period February 1, 2001 through January 31, 2002:

Manufacturer/Exporter | Margin ­(Percent)
Echjay Forgings/Pushpaman Exports | 20.08
Snowdrop | 210.00
Viraj | 0

All other entries of the subject merchandise during the POR will be liquidated at the antidumping duty rate in place at the time of entry. The Department will issue appropriate assessment instructions directly to the U.S. Bureau of Customs and Border Protection within 15 days of publication of these final results of review.

Cash Deposit Requirements

The following cash deposit requirements will be effective upon publication of the final results of this administrative review for all shipments of the subject merchandise entered, or withdrawn from warehouse, for consumption on or after the publication date, as provided for by section 751(a)(1) of the Act: (1) for the companies named above, the cash deposit rates will be the rates for these firms shown above, except that, for exporters with de minimis rates (i.e., less than 0.5 percent) no deposit will be required; (2) for previously-reviewed producers and exporters with separate rates, the cash deposit rate will be the company-specific rate established for the most recent period for which they were reviewed; and (3) for all other producers and exporters, the rate will be 162.14 percent, the “all others” rate established in the less than fair value investigation (59 FR 5994, February 9, 1994). These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections section 751(a)(1) and 777(i)(1) of the Act.

Dated: July 8, 2003.
Joseph A. Spetrini,
Acting Assistant Secretary for for Grant Aldonas, Under Secretary.

Appendix

List of Comments and Issues in the Decision Memorandum

Echjay

1. Partial Adverse Facts Available for Direct Materials

2. Partial Adverse Facts Available for Packing Costs

3. Duty Drawback

4. Calculation Errors for Direct Material

5. Calculation Errors for Direct Labor

6. Calculation Errors for General and Administrative Expenses

7. Calculation Error for Variable Overhead

Snowdrop

8. Use of Total Adverse Facts Available

9. Corroboration of Antidumping Duty Margin

[FR Doc. 03-18013 Filed 7-15-03; 8:45 am]

BILLING CODE 3510-DS-S